DEPARTMENT OF THE INTERIOR

Bureau of Land Management

[LLNMA00000 L12200000.DF0000 16X]

Notice of Public Meeting, Albuquerque District Resource Advisory Council Meeting, New Mexico

AGENCY: Bureau of Land Management, Interior.

ACTION: Notice of public meeting.

SUMMARY: In accordance with the Federal Land Policy and Management Act and the Federal Advisory Committee Act, the Bureau of Land Management (BLM), Albuquerque District Resource Advisory Council (RAC) will meet as indicated below.

DATES: The RAC will meet on Thursday, August 25, 2016, at the Albuquerque District Office, 100 Sun Avenue Northeast, Pan American Building, Suite 330, Albuquerque, New Mexico, from 9:30 a.m.-4 p.m.. The public may send written comments to the RAC at the BLM Albuquerque District Office, 100 Sun Avenue Northeast, Pan American Building, Suite 330, Albuquerque, NM 87109.

FOR FURTHER INFORMATION CONTACT: Carlos Coontz, 575-838-1263, BLM Socorro Field Office, 901 South Highway 85, Socorro, NM 87101. Persons who use a telecommunications device for the deaf (TDD) may call the Federal Information Relay Service (FIRS) at 1-800-877-8229 to contact the above individual during normal business hours. The FIRS is available 24 hours a day, 7 days a week, to leave a message or question with the above individual. You will receive a reply during normal business hours.

SUPPLEMENTARY INFORMATION: The 10-member Albuquerque District RAC advises the Secretary of the Interior, through the BLM, on a variety of planning and management issues associated with public land management in New Mexico's Albuquerque District.

Planned agenda items include updates on the 2016 RAC charter renewal; the second call for nominations; a Rio Puerco Field Office resource update and Assistant Field Manager introductions; a Socorro Field Office resource update and Assistant Field Manager Introduction; and a fee proposal presentation for U.S. Forest Service recreation sites. There will also be a discussion on Planning 2.0, and time for the RAC to have open discussion.

A half-hour comment period during which the public may address the RAC will begin at 11 a.m. All RAC meetings are open to the public. Depending on the number of individuals wishing to comment and time available, the time for individual oral comments may be limited.

Sally Butts,
Acting Deputy State Director, Lands and Resources.

[FR Doc. 2016-17953 Filed 7-28-16; 8:45 am]

BILLING CODE 4310-FB-P